DEPARTMENT OF COMMERCE

National Oceanic and Atmospheric Administration

RIN 0648-XD82

Endangered and Threatened Species; 5-year Review

AGENCY: National Marine Fisheries Service (NMFS), National Oceanic and Atmospheric Administration (NOAA), Commerce.

ACTION: Notice of availability of a 5-year review for Johnson's seagrass.

SUMMARY: We, NMFS, announce the availability of a 5-year review for Johnson's seagrass (Halophila johnsonii) as required by the Endangered Species Act of 1973 (ESA). Johnson's seagrass was listed as threatened on September 14, 1998. Based on the best available scientific and commercial data, we conclude in the 5-year review that Johnson's seagrass remains a threatened species likely to become endangered within the foreseeable future. Therefore, based on our 5-year review, we recommend no change in listing.

ADDRESSES: Additional information about the 5-year review may be obtained by writing to Shelley Norton, NMFS, Southeast Regional Office, Protected Resources Division, 263 13th Avenue South, St. Petersburg, FL 33701 or send and electronic message to Shelley.norton@noaa.gov. Electronic copies of the 5-year review are available online at the NMFS Southeast Regional Office website: http://sero.nmfs.noaa.gov/pr/protres.htm.

SUPPLEMENTARY INFORMATION:

Background

Under the ESA, a list of endangered and threatened wildlife and plant species must be maintained. The list is published at 50 CFR 17.11 (for animals) and 17.12 (for plants). Section 4(c)(2)(A) of the ESA requires that we conduct a review of listed species at least once every 5 years. On the basis of such reviews under section 4(c)(2)(B), we determine whether any species should be removed from the List (delisted), or reclassified from endangered to threatened or from threatened to endangered. In a 5-year review we consider the best scientific and commercial data and all new information that has become available since the listing determination or most recent status review of a species.

NMFS and the NOAA Center for Coastal Fisheries and Habitat Research (CCFHR) initiated the 5-year review of Johnson's Seagrass in September 2006. The CCFHR and NMFS solicited information from the public through the Federal Register (71 FR 60108; October 12, 2006), as well as through personal and written communications with several educational institutions, Federal and state governments, and private research organizations. To complete the review, we evaluated all information that has become available on the species since 1997, the date of the last Johnson's seagrass biological status review. The completed 5-year review was peer reviewed. We conclude that the 5-year review meets the requirements of the ESA.

Authority: 16 U.S.C. 1531 et seq.

Dated: November 28, 2007.
Angela Somma,
Chief, Endangered Species Division, Office of Protected Resources, National Marine Fisheries Service.

[FR Doc. E7-23503 Filed 12-3-07; 8:45 am]

BILLING CODE 3510-22-S